DEPARTMENT OF LABOR

Employment and Training Administration

Request for Certification of Compliance—Rural Industrialization Loan and Grant Program

AGENCY: Employment and Training Administration, Labor.

ACTION: Notice.

SUMMARY: The Employment and Training Administration is issuing this notice to announce the receipt of two (2) individual “Certification of Non-Relocation and Market and Capacity Information Reports” (Form 4279-2) for the following:

Applicant/Location: Central Pork Packers, LLC/Cherokee, Iowa and Rock Rapids, Iowa.

Principal Product/Purpose: The loan, guarantee, or grant applications are for two (2) new business ventures that plan to separately acquire for each location the infrastructure, building, and equipment needed for pork animal slaughtering. The NAICS industry code for both enterprises is: 311611 Animal (except Poultry) Slaughtering.

DATES: All interested parties may submit comments in writing no later than July 29, 2008. Copies of adverse comments received will be forwarded to the applicant noted above.

ADDRESSES: Address all comments concerning this notice to Anthony D. Dais, U.S. Department of Labor, Employment and Training Administration, 200 Constitution Avenue, NW., Room S-4231, Washington, DC 20210; or e-mail Dais.Anthony@dol.gov; or transmit via fax (202) 693-3015 (this is not a toll-free number).

FOR FURTHER INFORMATION CONTACT: Anthony D. Dais, at telephone number (202) 693-2784 (this is not a toll-free number).

SUPPLEMENTARY INFORMATION: Section 188 of the Consolidated Farm and Rural Development Act of 1972, as established under 29 CFR Part 75, authorizes the United States Department of Agriculture to make or guarantee loans or grants to finance industrial and business activities in rural areas. The Secretary of Labor must review the application for financial assistance for the purpose of certifying to the Secretary of Agriculture that the assistance is not calculated, or likely, to result in: (a) A transfer of any employment or business activity from one area to another by the loan applicant's business operation; or, (b) An increase in the production of goods, materials, services, or facilities in an area where there is not sufficient demand to employ the efficient capacity of existing competitive enterprises unless the financial assistance will not have an adverse impact on existing competitive enterprises in the area. The Employment and Training Administration within the Department of Labor is responsible for the review and certification process. Comments should address the two bases for certification and, if possible, provide data to assist in the analysis of these issues.

Signed: at Washington, DC this 9th of July, 2008.
Gay M. Gilbert,
Administrator, Office of Workforce Investment, Employment and Training Administration.

[FR Doc. E8-16145 Filed 7-14-08; 8:45 am]

BILLING CODE 4510-FN-P